DEPARTMENT OF AGRICULTURE

Food Safety and Inspection Service

[Docket No. FSIS-2013-0041]

National Advisory Committee of Meat and Poultry Inspection

AGENCY: Food Safety and Inspection Service, USDA.

ACTION: Notice of public meeting.

SUMMARY: The Food Safety and Inspection Service (FSIS) is announcing a meeting of the National Advisory Committee on Meat and Poultry Inspection (NACMPI). The Committee is being convened to review two topics for FSIS. The first topic will address safe handling instructions included on food labels. FSIS is seeking input from the committee to fully explore enhancing the safe food handling label on meat and poultry packages. With this input, the Agency will consider whether or not the current safe handling instructions should be changed to meet the needs of the consuming public; FSIS is also seeking feedback from NACMPI on FSIS's Establishment-Specific Data Release Strategic Plan. The plan was developed from recommendations by the NACMPI committee in 2010. FSIS would like the committee to review the strategic plan and provide further suggestions.

DATES: The meeting is scheduled for January 7-8, 2014 from 9:00 a.m. to 5:00 p.m. Eastern Time. The committee will meet from 8:00 a.m. to 9:00 a.m. on January 7th for administrative purposes; this portion of the meeting is not open to the public.

ADDRESSES: The meetings will be held in the Auditorium at the Patriot Plaza III Building, 355 E. Street SW., Washington, DC 20024. The auditorium is located on the first floor. Please note that due to increased security measures at the Patriot Plaza III, all persons wishing to attend are strongly encouraged to register in advance.

FOR FURTHER INFORMATION CONTACT: Sally Fernandez, Program Specialist, Designated Federal Officer, via Email: Sally.Fernandez@fsis.usda.gov; Telephone: (202) 690-6524; or Fax: (202) 690-6519 regarding specific questions about the committee or this meeting. General information about the committee can also be found at: http://www.fsis.usda.gov/wps/portal/informational/aboutfsis/!ut/p/a0/04_Sj9CPykssy0xPLMnMz0vMAfGjzOINAg3MDC2dDbz8LQ3dDDz9wgL9vZ2dDdz9TfQLsh0VAfb5Y5I!/?1dmy&current=true&urile=wcm%3apath%3a%2Ffsis-content%2Finternet%2Fmain%2Ftopics%2Fregulations%2Fadvisory-committees%2Fnacmpi%2Fnacmpi.

SUPPLEMENTARY INFORMATION:

Background

The purpose of the Committee is to provide advice to the Secretary concerning State and Federal programs with respect to meat, poultry, and processed egg product inspection, safety, and other matters that fall within the scope of the FMIA and PPIA. The agenda topics are safe handling instructions included on food labels and FSIS's Establishment-Specific Data Release Strategic Plan.

Register for the Meeting: The public is asked to pre-register for the meeting. Your pre-registration must state the following: (1) The names of each person in your group; (2) organization or interest represented; (3) the number of people planning to give oral comments, if any; and (4) whether anyone in your group requires special accommodations. Submit registrations to http://www.fsis.usda.gov/wps/portal/fsis/topics/regulations/advisory-committees/nacmpi/nacmpi-meetings. FSIS will also accept walk-in registrations. Members of the public requesting to give an oral comment to the Committee must sign in at the registration desk.

Public Comments: Written public comments may be mailed to: USDA, FSIS, 1400 Independence Avenue SW., Mailstop 3778, Washington, DC 20250; submitted via Fax: (202) 690-6519; or by Email: NACMPI@fsis.usda.gov. All written comments must arrive by February 8, 2013. Oral comments are also accepted (see instructions under “Register for the Meeting” above).

Availability of Materials for the Meeting: All written public comments will be compiled into a binder and available for review at the meeting. Duplicate comments from multiple individuals will appear as one comment, with a notation that multiple copies of the comment were received. Please visit http://www.fsis.usda.gov/wps/portal/fsis/topics/regulations/advisory-committees/nacmpi-reports to learn more about the agenda, for the meeting, or reports, resulting from this meeting.

Meeting Accommodations: USDA is committed to ensuring that all interested persons are included in our events. If you are a person with a disability and would like to request reasonable accommodations to participate in this meeting, please contact Sally Fernandez via Phone: (202) 690-6524; Fax (202) 690-6519; or Email: Sally.Fernandez@fsis.usda.gov. All reasonable accommodation requests are managed on a case by case basis.

USDA Nondiscrimination Statement

The U.S. Department of Agriculture (USDA) prohibits discrimination in all its programs and activities on the basis of race, color, national origin, gender, religion, age, disability, political beliefs, sexual orientation, and marital or family status. (Not all prohibited bases apply to all programs).

Persons with disabilities who require alternative means for communication of program information (Braille, large print, audiotape, etc.) should contact USDA's Target Center at (202) 720-2600 (voice and TTY).

To file a written complaint of discrimination, contact USDA Office of the Assistant Secretary for Civil Rights, 1400 Independence Avenue SW., Washington, DC 20250-9410 or call (202) 720-5964 (voice and TTY). USDA is an equal opportunity provider and employer.

Additional Public Notification

FSIS will announce this notice on-line through the FSIS Web page located at http://www.fsis.usda.gov/wps/portal/fsis/topics/regulations/federal-register.

FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an email subscription service which provides automatic and customized access to selected food safety news and information. This service is available at http://www.fsis.usda.gov/wps/portal/fsis/programs-and-services/email-subscription-service. Options range from recalls to export information to regulations, directives and notices. Customers can add or delete subscriptions themselves and have the option to password protect their account.

Done at Washington, DC, December 16, 2013.
Alfred V. Almanza,
Administrator.

[FR Doc. 2013-30561 Filed 12-23-13; 8:45 am]

BILLING CODE 3410-DM-P